DEPARTMENT OF ENERGY

Federal Energy Regulatory Commission

Combined Notice of Filings #1

Take notice that the Commission received the following Complaints and Compliance filings in EL Dockets:

Docket Numbers: EL23-41-000.

Applicants: arGo Partners GP LLC.

Description: Petition for Declaratory Order of arGo Partners GP LLC.

Filed Date: 2/16/23.

Accession Number: 20230216-5243.

Comment Date: 5 p.m. ET 3/20/23

Docket Numbers: EL23-42-000.

Applicants: Soltage Executive Employees, LLC.

Description: Petition for Declaratory Order of Soltage Executive Employees, LLC.

Filed Date: 2/16/23.

Accession Number: 20230216-5244.

Comment Date: 5 p.m. ET 3/20/23.

Docket Numbers: EL23-43-000.

Applicants: arGo Partners GP LLC.

Description: Petition for Declaratory Order of arGo Partners GP LLC.

Filed Date: 2/16/23.

Accession Number: 20230216-5245.

Comment Date: 5 p.m. ET 3/20/23.

Docket Numbers: EL23-44-000.

Applicants: Kansas Electric Power Cooperative, Inc., Kansas Municipal Energy Agency, and Kansas Power Pool v. Evergy Kansas Central, Inc.

Description: Complaint of Kansas Electric Power Cooperative, Inc., Kansas Municipal Energy Agency, and Kansas Power Pool.

Filed Date: 2/27/23.

Accession Number: 20230227-5284.

Comment Date: 5 p.m. ET 3/20/23.

Take notice that the Commission received the following electric rate filings:

Docket Numbers: ER22-2983-002.

Applicants: Ohio Power Company.

Description: Compliance filing: Ohio Power MBR Revision to be effective 1/19/2023.

Filed Date: 2/28/23.

Accession Number: 20230228-5269.

Comment Date: 5 p.m. ET 3/21/23.

Docket Numbers: ER23-824-001.

Applicants: PJM Interconnection, L.L.C.

Description: Tariff Amendment: Amendment of Amended ISA, SA No. 5999; Queue No. AC2-012 in Docket No. ER23-824 to be effective 3/13/2023.

Filed Date: 3/1/23.

Accession Number: 20230301-5251.

Comment Date: 5 p.m. ET 3/22/23.

Docket Numbers: ER23-1186-000.

Applicants: Conway Corporation, City Water and Light Plant of the City of Jonesboro, West Memphis Utilities Commission.

Description: Request for Limited Waiver, et al. of Conway Corporation, et al.

Filed Date: 2/24/23.

Accession Number: 20230224-5280.

Comment Date: 5 p.m. ET 3/6/23.

Docket Numbers: ER23-1196-000.

Applicants: Nevada Power Company, Sierra Pacific Power Company.

Description: Notice of Termination Filing of Nevada Power Company et al.

Filed Date: 2/24/23.

Accession Number: 20230224-5348.

Comment Date: 5 p.m. ET 3/17/23.

Docket Numbers: ER23-1197-000.

Applicants: New England Power Pool Participants Committee.

Description: § 205(d) Rate Filing: Mar 2023 Membership Filing to be effective 2/1/2023.

Filed Date: 2/28/23.

Accession Number: 20230228-5299.

Comment Date: 5 p.m. ET 3/21/23.

Docket Numbers: ER23-1198-000.

Applicants: Entergy Arkansas, LLC.

Description: § 205(d) Rate Filing: EAL Standby Availability Service Agreement to be effective 3/1/2023.

Filed Date: 2/28/23.

Accession Number: 20230228-5315.

Comment Date: 5 p.m. ET 3/21/23.

Docket Numbers: ER23-1199-000.

Applicants: East Texas Electric Cooperative, Inc.

Description: Request for Limited Waiver, et al. of East Texas Electric Cooperative, Inc.

Filed Date: 2/27/23.

Accession Number: 20230227-5291.

Comment Date: 5 p.m. ET 3/9/23.

Docket Numbers: ER23-1201-000.

Applicants: MC Project Company LLC.

Description: § 205(d) Rate Filing: Proposed Revisions to Reactive Service Rate Schedule to be effective 6/1/2023.

Filed Date: 3/1/23.

Accession Number: 20230301-5053.

Comment Date: 5 p.m. ET 3/22/23.

Docket Numbers: ER23-1202-000.

Applicants: Basin Electric Power Cooperative.

Description: § 205(d) Rate Filing: Submission of Revised Missouri Basin Power Project Participation Agreement to be effective 5/1/2023.

Filed Date: 3/1/23.

Accession Number: 20230301-5054.

Comment Date: 5 p.m. ET 3/22/23.

Docket Numbers: ER23-1203-000.

Applicants: PJM Interconnection, L.L.C.

Description: § 205(d) Rate Filing: Original WMPA, Service Agreement No. 6790; Queue No. AF2-175 to be effective 1/30/2023.

Filed Date: 3/1/23.

Accession Number: 20230301-5059.

Comment Date: 5 p.m. ET 3/22/23.

Docket Numbers: ER23-1204-000.

Applicants: PJM Interconnection, L.L.C.

Description: § 205(d) Rate Filing: Original ISA, Service Agreement No. 6812; Queue No. AE1-146 to be effective 1/31/2023.

Filed Date: 3/1/23.

Accession Number: 20230301-5070.

Comment Date: 5 p.m. ET 3/22/23.

Docket Numbers: ER23-1205-000.

Applicants: FirstEnergy Service Company, Mid-Atlantic Interstate Transmission, LLC, PJM Interconnection, L.L.C.

Description: § 205(d) Rate Filing: FirstEnergy Service Company submits tariff filing per 35.13(a)(2)(iii: MAIT submits one Engineering and Construction Agreement, SA No. 6631 to be effective 5/1/2023.

Filed Date: 3/1/23.

Accession Number: 20230301-5139.

Comment Date: 5 p.m. ET 3/22/23.

Docket Numbers: ER23-1206-000.

Applicants: Duke Energy Florida, LLC, Duke Energy Progress, LLC, Duke Energy Carolinas, LLC.

Description: § 205(d) Rate Filing: Duke Energy Florida, LLC submits tariff filing per 35.13(a)(2)(iii: Revisions to Formula Rate Templates (Order No. 864) to be effective 4/29/2023.

Filed Date: 3/1/23.

Accession Number: 20230301-5168.

Comment Date: 5 p.m. ET 3/22/23.

Docket Numbers: ER23-1207-000.

Applicants: Southwest Power Pool, Inc.

Description: § 205(d) Rate Filing: 1636R27 Kansas Electric Power Cooperative, Inc. NITSA and NOA to be effective 2/1/2023.

Filed Date: 3/1/23.

Accession Number: 20230301-5192.

Comment Date: 5 p.m. ET 3/22/23.

Docket Numbers: ER23-1208-000.

Applicants: North Central Valley Energy Storage, LLC.

Description: Baseline eTariff Filing: North Central Valley Energy Storage, LLC—MBR Application to be effective 5/1/2023.

Filed Date: 3/1/23.

Accession Number: 20230301-5224.

Comment Date: 5 p.m. ET 3/22/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2023.
Debbie-Anne A. Reese,
Deputy Secretary.

[FR Doc. 2023-04635 Filed 3-6-23; 8:45 am]

BILLING CODE 6717-01-P